ENVIRONMENTAL PROTECTION AGENCY

40 CFR Part 52

[IL221-1a; FRL-7657-8]

Approval and Promulgation of State Implementation Plans; Illinois

AGENCY: Environmental Protection Agency (EPA).

ACTION: Direct final rule.

SUMMARY: The EPA is approving a site-specific revision to the Illinois volatile organic compound (VOC) State Implementation Plan (SIP) for the Horween Leather Company (Horween) in Chicago, Illinois. By its submittal dated May 28, 2003, the Illinois Environmental Protection Agency (Illinois EPA) requested that EPA approve a site-specific rule that would change the VOC control requirements that would apply to a small amount of specialty leathers and allow them to be produced at Horween's leather production facility in Chicago. This request is approvable because it satisfies reasonably available control technology (RACT) and is a more suitable control measure for certain of its specialty leather coating operations than the existing rule which this amends. The rationale for the approval and other information are provided in this rulemaking action.

DATES: This “direct final” rule is effective July 23, 2004, unless EPA receives written adverse comment by June 23, 2004. If written adverse comment is received, EPA will publish a timely withdrawal of the direct final rule in the Federal Register and inform the public that the rule will not take effect.

ADDRESSES: Submit your comments, identified by Docket ID No. IL221 by one of the following methods:

Federal eRulemaking Portal: http://www.regulations.gov. Follow the on-line instructions for submitting comments.

E-mail: bortzer.jay@epa.gov.

Fax: (312) 886-5824.

Mail: You may send written comments to: J. Elmer Bortzer, Chief, Criteria Pollutant Section, (AR-18J), Environmental Protection Agency, 77 West Jackson Boulevard, Chicago, Illinois 60604.

Hand delivery: Deliver your comments to: J. Elmer Bortzer, Chief, Criteria Pollutant Section, (AR-18J), U.S. Environmental Protection Agency, Region 5, 77 West Jackson Boulevard, 18th floor, Chicago, Illinois 60604. Such deliveries are only accepted during the Regional Office's normal hours of operation. The Regional Office's official hours of business are Monday through Friday, 8:30 a.m. to 4:30 p.m. excluding Federal holidays.

Instructions: Direct your comments to Docket ID No. IL221. EPA's policy is that all comments received will be included in the public docket without change, including any personal information provided, unless the comment includes information claimed to be Confidential Business Information (CBI) or other information whose disclosure is restricted by statute. Do not submit information that you consider to be CBI or otherwise protected through regulations.gov, or e-mail. The federal regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. “For additional instructions on submitting comments, go to Section I of the SUPPLEMENTARY INFORMATION section of this document.”

Docket: All documents in the docket are listed in an index. Although listed in the index, some information is not publicly available, i.e., CBI or other information whose disclosure is restricted by statute. Publicly available docket materials are available in hard copy at Environmental Protection Agency, Region 5, Air and Radiation Division, 77 West Jackson Boulevard, Chicago, Illinois 60604. (We recommend that you telephone Steven Rosenthal, Environmental Engineer, at (312) 886-6052 before visiting the Region 5 office.) This Facility is open from 8:30 a.m. to 4:30 p.m., Monday through Friday, excluding legal holidays.

FOR FURTHER INFORMATION CONTACT: Steven Rosenthal at (312) 886-6052.

SUPPLEMENTARY INFORMATION: This supplementary information section is organized as follows:

I. General Information

II. EPA Action and Review

1. What Action Is EPA Taking Today?

2. Why Is EPA Taking this Action?

3. What Are the Control Requirements in the Adjusted Standard?

4. What Information Did Illinois submit in Support of this SIP?

5. Was a Public Hearing Held?

6. What led to the SIP Revision and why is it being Approved?

III. Final Rulemaking Action

IV. Statutory and Executive Order Reviews

I. General Information

A. Does This Action Apply to Me?

Probably not because this action applies to a single source, Horween, in Chicago, IL.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

II. EPA Action and Review

1. What Action Is EPA Taking Today?

In this action, EPA is approving into the Illinois VOC SIP an amendment to the leather coating rules that apply in the Chicago ozone nonattainment area. Specifically, EPA is approving a new Section 218.929 that changes the VOC control requirements for coating a small amount of specialty leathers at Horween's leather production facility located at 2015 North Elston Avenue, Chicago, Illinois. These control requirements were adopted in the Illinois Pollution Control Board's February 20, 2003, Final Order R02-20 which adopts a revision to 35 Ill. Adm. Code 218.112 (in which a test method is added to Illinois' Incorporation by Reference Section) and new Section 35. Ill. Adm. Code 218.929.

2. Why Is EPA Taking This Action?

The VOC control requirements contained in Section 218.929 represent a RACT level of VOC control for the specialty shoe leathers that are covered by them. They are based upon leather coating requirements that had previously been approved by EPA as a SIP revision for a company making products similar to Horween.

3. What Are the Control Requirements in the Adjusted Standard?

Section 218.929 adds control requirements, and measures to ensure their enforceability, that apply to certain specialty leathers coated at Horween's Chicago leather manufacturing facility. These specialty leathers are cementable and dress or performance shoe leathers. Cementable shoe leather has over 12 percent but less than 25 percent wax, grease, polymers and oils embedded into the leather. By contrast, the previously approved definition of specialty leather (with less stringent VOC content limits) specifies leather with over 25% by weight grease, wax, and oils. Dress or performance shoe leather is finished with coating materials containing water emulsified materials using water miscible solvent materials and is used primarily for the manufacture of sewn shoes where the leather must be capable of soaking with a fine, dressy finish. Also, the 10-ton exemption for stain pursuant to Section 218.926(b)(2)(i) does not apply to the specialty leathers covered by Section 218.929.

Section 218.929 (b) provides numeric limitations on emissions of the specialty leather products described above and in Section 218.929 (a). They are 14 lbs. VOC/1000 square feet for non-water resistant leathers; 24 lbs. VOC/1000 square feet for water resistant leather; and a total annual VOC emission limit of 20 tons. The leather will be designated as water resistant or non-water resistant by using ASTM D 2099-00, which is incorporated by reference in Section 218.112 of Part 218.

Section 218.929 (c) requires that Horween comply with its approved standard operating and maintenance procedures, which minimize the volatilization of solvents during the measuring and/or mixing of coatings, minimize VOC fugitive losses from the coating and solvent storage rooms, and minimize solvent usage or VOC losses during equipment cleanup and during transport.

Section 218.929 (d) specifies reporting and recordkeeping requirements to ensure that the coating limits in section 218.929 (b) are met. This includes keeping records of the VOC content and gallons of each coating and the total pounds of VOC of all coatings applied to each category of leather, and the total area of each category of leather produced during each month.

4. What Information Did Illinois Submit in Support of This SIP?

The Illinois EPA submitted the following information and supporting documentation (along with other less substantive procedural documents) in support of its request for an Amendment, contained in 35 Ill. Adm. Code 218.929, to the leather coating rules for Horween.

(a) Horween's Petition for a site-specific rulemaking filed with the Illinois Pollution Control Board on February 4, 2002.

(b) On May 17, 2002, the Illinois Pollution Control Board issued a notice of public hearing for June 26, 2002, in Chicago. A public hearing was subsequently held on that day.

(c) Testimony by Horween in support of its petition filed with the Illinois Pollution Control Board on June 19, 2002.

(d) On July 19, 2002, Horween filed post-hearing comments in which it successfully argued that high-volume, low-pressure (HVLP) spray application equipment is not feasible at its leather manufacturing facility.

(d) The February 20, 2003, Opinion and Order of the Illinois Pollution Control Board, in which it adopted the amendments to the leather coating rules for Horween's Chicago leather manufacturing facility in 35 Ill. Adm. Code 218.929.

5. Was a Public Hearing Held?

A public hearing was held on June 26, 2002, in Chicago and a transcript of the hearing was submitted by Illinois EPA in support of its request for a SIP revision.

6. What Led to the SIP Revision and Why Is it Being Approved?

Horween petitioned the Illinois Pollution Control Board for a site-specific rule revision that would apply to a small amount of new specialty leathers that it would like to produce. In order to meet changing customer demands, to counter its loss of business since 1995, it must meet the requirements of its customers for different types of specialty-type leathers, including cementable pull up, leathers designed for hand-sewn shoes, and other performance leathers that were not considered when Illinois' existing leather coating rules were adopted.

These include leathers with between 12% and 25% grease, wax and oil content which cannot be finished with coatings that comply with the generally applicable 3.5 lbs. VOC per gallon regulation (because coating difficulties begin to occur at a grease, wax and oils content of 12%) and cannot satisfy the definition of specialty leather, with its less stringent 38 lbs. VOC per 1000 square feet of leather limitation. A second group of leathers are intended for hand-sewn shoes with an extremely glossy, dressy look and fine, smooth finish. The top finish of the leather must be able to withstand ironing with high temperatures to give a uniform, smooth appearance, and be compatible with finishes used to stain and antique the shoes. Water-based finishes that comply with the 3.5 lbs. VOC per gallon regulation do not satisfy these requirements.

In order to satisfy Horween's leather manufacturing requirements and to ensure that RACT coating limits are achieved, Illinois adopted leather coating limits which had been previously approved by EPA as RACT for a similar facility. In addition, the emissions from these coatings are limited to 20 tons of VOCs per year. These control requirements, therefore, satisfy RACT and are approvable.

III. Final Rulemaking Action

For the reasons given above, EPA is approving into the Illinois VOC SIP a revision to the Incorporation by Reference list in 35 ILL. Adm. Code 218.112 and a new Section 218.929 that changes the VOC control requirements for coating a small amount of specialty leathers at Horween's leather manufacturing facility.

The EPA is publishing this action without prior proposal because we view this as a noncontroversial amendment and anticipate no adverse comments. However, in the proposed rules section of this Federal Register publication, we are publishing a separate document that will serve as the proposal to approve the state plan if relevant adverse comments are filed. This rule will be effective July 23, 2004 without further notice unless we receive relevant adverse written comments by June 23, 2004. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective July 23, 2004.

IV. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children from Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 23, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: April 26, 2004.
Bharat Mathur,
Acting Regional Administrator, Region 5.

Title 40 of the Code of Federal Regulations, chapter I, part 52, is amended as follows:

PART 52—[AMENDED]

1. The authority citation for part 52 continues to read as follows:

Authority: 42 U.S.C. 7401 et seq.

2. Section 52.720 is amended by adding paragraph (c)(170) for a site-specific rule revision for Horween Leather Company's Chicago, Illinois leather manufacturing facility as follows:

§ 52.720 Identification of plan.

* * * * *

(c) * * *

(170) On May 28, 2003, Illinois submitted an amendment to its leather coating rules for the Horween Leather Company's Chicago leather manufacturing facility. This adds a test method in Section 218.112(a)(26) and a new Section 35 Ill. Adm. Code 218.929. These amendments were incorporated in the Illinois Pollution Control Board's February 20, 2003, Final Order R02-20.

(i) Incorporation by reference. Illinois Administrative Code Title 35: Environmental Protection, Subtitle B: Air Pollution, Chapter I: Pollution Control Board, Subchapter c: Emissions Standards and Limitations for Stationary Sources, Part 218 Organic Material Emission Standards and Limitations for the Chicago Area.

(A) Subpart A: General Provisions, Section 218.112 Incorporations by Reference, (a) American Society for Testing and Materials, 100 Barr Harbor Drive, West Conshohocken, PA 19428-9555, 26) ASTM D2099-00. Amended at 27 Ill. Reg. 7283, effective April 8, 2003.

(B) Subpart PP: Miscellaneous Fabricated Product Manufacturing Processes, Section 218.929 Cementable and Dress or Performance Shoe Leather. Added at 27 Ill. Reg. 7283, effective April 8, 2003.

[FR Doc. 04-11557 Filed 5-21-04; 8:45 am]

BILLING CODE 6560-50-U